FEDERAL COMMUNICATIONS COMMISSION

47 CFR Part 73

[DA 03-3868; MB Docket No. 03-246, RM-10830]

Radio Broadcasting Services; Ambrose and Ocilla, GA

AGENCY: Federal Communications Commission.

ACTION: Proposed rule.

SUMMARY: This document sets forth a proposal to amend the FM Table of Allotments of the Commission's rules. The Commission requests comment on a petition filed by RTG Radio, LLC, licensee of Station WKAA(FM), Channel 249A, Ocilla, Georgia. Petitioner proposes to delete Channel 249A at Ocilla, Georgia, to allot Channel 250A at Ambrose, Georgia, and to modify the license of Station WKAA(FM) accordingly. Channel 250A can be allotted to Ambrose in compliance with the Commission's minimum distance separation requirements with a site restriction of 13.4 km (8.3 miles) southeast of Ambrose. The coordinates for Channel 250A at Ambrose are 31-30-36 North Latitude and 82-54-48 West Longitude. See SUPPLEMENTARY INFORMATION infra.

DATES: Comments must be filed on or before January 30, 2004, and reply comments on or before February 17, 2004.

ADDRESSES: Federal Communications Commission, Washington, DC 20554. In addition to filing comments with the FCC, interested parties should serve counsel for the petitioner as follows: David G. O'Neil, Elise Dang, Manatt, Phelps & Phillips, LLP, 1501 M Street, NW., Suite 700, Washington, DC 20005.

FOR FURTHER INFORMATION CONTACT: Deborah A. Dupont, Media Bureau (202) 418-7072.

SUPPLEMENTARY INFORMATION: This is a synopsis of the Commission's notice of proposed rulemaking, MB Docket No. 03-246, adopted December 3, 2003, and released December 8, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The provisions of the Regulatory Flexibility Act of 1980 do not apply to this proceeding. Members of the public should note that from the time a notice of proposed rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Georgia, is amended by adding Ambrose, Channel 250A and by removing Channel 249A at Ocilla.

Federal Communications Commission.
John A. Karousos,
Assistant Chief, Audio Division, Media Bureau.

[FR Doc. 03-31608 Filed 12-22-03; 8:45 am]

BILLING CODE 6712-01-P